DEPARTMENT OF COMMERCE

National Oceanic and Atmospheric Administration

RIN 0648-XK57

Endangered and Threatened Species; Recovery Plan for White Abalone

AGENCY: National Marine Fisheries Service (NMFS), National Oceanic and Atmospheric Administration (NOAA), Commerce.

ACTION: Notice of availability.

SUMMARY: The National Marine Fisheries Service (NMFS) announces the availability of a final recovery plan for the white abalone (Haliotis sorenseni). This endangered gastropod is a long-lived, slow moving bottom dweller and is a member of the California Haliotids. Currently, isolated survivors have been identified along the mainland coast in Santa Barbara County and at some of the offshore islands and banks along the central California coast. NMFS' ultimate goal is to increase white abalone abundance to viable and self-sustaining levels such that the species can be downlisted to threatened status and eventually removed from the Endangered Species List.

ADDRESSES: The final Plan can be obtained via the Internet at: http://www.nmfs.noaa.gov or by submitting a request to the Assistant Regional Administrator, Protected Resources Division, Southwest Region, NMFS, 501 West Ocean Blvd., Suite 4200, Long Beach, CA 90802-4213. You may also contact NMFS by e-mail at: whiteabalone.recoveryplan@noaa.gov; by facsimile at: 562-980-4027, Attention: Melissa Neuman.

FOR FURTHER INFORMATION CONTACT: Melissa Neuman, NMFS, Southwest Region at 562-980-4115.

SUPPLEMENTARY INFORMATION:

Background

Recovery of endangered or threatened animals or plants is a primary goal of the endangered species program. A species is considered recovered once the species' ecosystem is restored and/or threats to the species are removed so that self-sustaining and self-regulating populations can be supported as persistent members of native biotic communities. Recovery plans describe actions considered necessary for the conservation of the species, establish criteria for downlisting or delisting listed species, and estimate the time and cost for implementing the measures needed for recovery.

White abalone (Haliotis sorenseni) was listed as the first federally endangered marine invertebrate under the United States Endangered Species Act of 1973 (16 U.S.C. 1531 et seq.) (ESA) in May 2001. The ESA requires that NOAA's National Marine Fisheries Service (NMFS) develop and implement recovery plans for the conservation and survival of threatened and endangered species under its jurisdiction, unless it is determined that such plans would not promote the conservation of the species. Accordingly, during the summer of 2002, NMFS appointed a recovery team comprised of experts in the fields of abalone biology and ecology, conservation biology, genetics, population dynamics and modeling, pathology, aquaculture, and marine policy to develop a recovery plan (Plan) as mandated by the ESA.

NMFS sought a scientific review of the draft Plan by 12 experts in October 2005. NMFS requested that the scientific reviewers consider: (1) issues and assumptions relating to the biological and ecological information of the draft Plan, and (2) scientific data relating to the tasks in the proposed recovery program. Four reviewers responded to NMFS' request. The recovery team reconvened in June 2006 to consider the reviewer's comments and incorporate changes to the draft Plan accordingly. On November 2, 2006 (71 FR 64512) the draft Plan was made available for public comment. NMFS considered all substantive comments and information presented during the public comment period in the course of finalizing this Plan. We will forward substantive comments regarding recovery plan implementation to appropriate Federal or other entities so that they can take these comments into account during the course of implementing recovery actions.

The purposes of the Plan are to: (1) delineate those aspects of white abalone biology, life history, and threats that are pertinent to its endangerment and recovery; (2) outline and justify a strategy to achieve recovery; (3) identify the site-specific management actions necessary to achieve recovery; (4) identify goals and criteria by which to measure the achievement of recovery; (5) serve as an outreach tool by articulating the reasons for white abalone's endangerment, and by explaining why the particular suite of recovery actions described is the most effective and efficient approach to achieving recovery; (6) help potential cooperators and partners understand the rationale behind the recovery actions identified, and assist them in identifying how they can facilitate recovery; (7) serve as a tool for monitoring recovery activities; and (8) be used to obtain funding for NMFS and its partners by identifying necessary recovery actions and their relative priority in the recovery process.

The objective of this Plan is to provide a framework for the recovery of white abalone so that protection under the ESA is no longer necessary. As recovery criteria are met, the status of the white abalone will be reviewed and considered for reclassification to threatened status or for removal from the Federal List of Endangered and Threatened Wildlife and Plants (50 CFR part 17). The white abalone will be considered for delisting when: (1) the density of emergent (detectable by human observation without substrate disturbance) animals (short term) is greater than 2, 000 per hectare for 75 percent of the geographic localities; (2) a total of 380,000 animals are maintained in the wild, distributed among all geographic localities in the USA and Mexico; (3) the proportion of size of emergent animals in 75 percent of geographic localities includes at least 85 percent intermediate-size animals (90 to 130 mm); (4) proportion of size of emergent animals in 75 percent of geographic localities includes no more than 15 percent large animals (>130 mm); (5) there is a stable or increasing estimate of geometric population growth (lambda ≥1) for >75 percent of the geographic localities over a ten year period; and (6) there is reoccupation of white abalone over a spatial scale that encompasses their historic range such that 75 percent of the geographic localities in the USA and Mexico are reoccupied and meet the recovery criteria.

Dated: October 14, 2008.
Angela Somma,
Chief, Endangered Species Division, Office of Protected Resources, National Marine Fisheries Service.

[FR Doc. E8-24921 Filed 10-17-08; 8:45 am]

BILLING CODE 3510-22-S